Title 3—

The President

Notice of June 24, 2004

Continuation of the National Emergency With Respect to the Western Balkans

On June 26, 2001, by Executive Order 13219, I declared a national emergency with respect to the Western Balkans pursuant to the International Emergency Economic Powers Act (50 U.S.C. 1701-1706) to deal with the unusual and extraordinary threat to the national security and foreign policy of the United States constituted by the actions of persons engaged in, or assisting, sponsoring, or supporting (i) extremist violence in the former Yugoslav Republic of Macedonia, and elsewhere in the Western Balkans region, or (ii) acts obstructing implementation of the Dayton Accords in Bosnia or United Nations Security Council Resolution 1244 of June 10, 1999, in Kosovo. Subsequent to the declaration of the national emergency, the actions of persons obstructing implementation of the Ohrid Framework Agreement of 2001 in the former Yugoslav Republic of Macedonia also became a pressing concern. I amended Executive Order 13219 on May 28, 2003, in Executive Order 13304 to address this concern and to take additional steps with respect to the national emergency. Because the actions of persons threatening the peace and international stabilization efforts in the Western Balkans continue to pose an unusual and extraordinary threat to the national security and foreign policy of the United States, the national emergency declared on June 26, 2001, and the measures adopted on that date and thereafter to deal with that emergency, must continue in effect beyond June 26, 2004. Therefore, in accordance with section 202(d) of the National Emergencies Act (50 U.S.C. 1622(d)), I am continuing for 1 year the national emergency with respect to the Western Balkans.

This notice shall be published in the Federal Register and transmitted to the Congress.

B

THE WHITE HOUSE,

June 24, 2004.

[FR Doc. 04-14727

Filed 6-24-04; 2:40 pm]

Billing code 3195-01-P